DEPARTMENT OF COMMERCE

National Oceanic and Atmospheric Administration

50 CFR Part 648

[I.D. 022505B]

Fisheries of the Northeastern United States; Atlantic Mackerel, Squid, and Butterfish Fisheries; Amendment 11 Atlantic Mackerel Limited Access Program

AGENCY: National Marine Fisheries Service (NMFS), National Oceanic and Atmospheric Administration (NOAA), Commerce.

ACTION: Supplemental notice of intent.

SUMMARY: On March 4, 2005, the Mid-Atlantic Fishery Management Council (Council), in cooperation with NMFS, announced its intent to prepare a programmatic supplemental environmental impact statement (SEIS) and Amendment 9 to the Atlantic Mackerel, Squid, and Butterfish Fishery Management Plan (FMP). As a result of that notice, the Council received public comment on the issue of whether or not to consider measures to control or limit future access to the Atlantic mackerel fishery in Amendment 9. Based on public comment received during that scoping comment period, the Council notified the public in a subsequent notice on June 9, 2005, of its intention to move the consideration of the development of a limited access program for mackerel to Amendment 10 to the FMP. Since then, the Council has been notified that it must develop a stock rebuilding program for butterfish as a result of that stock being designated as overfished. Consequently, Amendment 10 will now include a plan to rebuild the overfished butterfish stock. As a result, the Council hereby notifies the public that the mackerel limited access program will now be developed in Amendment 11 to the FMP. While the Council believes that this action will result in a slight delay in the development of a limited access program for Atlantic mackerel, no other changes are anticipated.

FOR FURTHER INFORMATION CONTACT: Eric Jay Dolin, Fishery Policy Analyst, 978-281-9259; fax 978-281-9135. e-mail: eric.dolin@noaa.gov.

SUPPLEMENTARY INFORMATION: Atlantic mackerel (Scomber scombrus) is a migratory species that supports important recreational and commercial fisheries along the Atlantic coast of the United States and Canada. The Council has considered the possibility of limiting entry to the Atlantic mackerel fishery for more than a decade. In April 2002, because the Council was concerned about rapid expansion of harvesting capacity in the fishery, possible overcapitalization, and the fact that nearly 5 years had passed since the most recent control date for the fishery was established, the Council requested that a new control date for the Atlantic mackerel fishery be established. As a result, NMFS published an advance notice of proposed rulemaking (ANPR) on July 5, 2002 (67 FR 44792), which established that date as the new control date for the Atlantic mackerel fishery. The ANPR was intended to discourage speculative entry into the fishery while potential management regimes to control access into the fishery were considered by the Council, and to help the Council distinguish established participants from speculative entrants to the fishery, should such a program be developed.

On March 4, 2005 (70 FR 10605), the Council published a notice of intent to prepare an SEIS to consider impacts of alternatives for limiting access to the Atlantic mackerel fishery. The Council subsequently conducted scoping meetings on the development of a limited access program for Atlantic mackerel, which the Council planned to include in Amendment 9 to the FMP. The first scoping meeting was held on March 17, 2005, in Kill Devil Hills, NC, and the second meeting was held on March 28, 2005, in Newport, RI. However, because the Council decided to complete and submit for review by the Secretary of Commerce several other measures in Amendment 9 that were further along in their development than the mackerel limited access program, the Council voted on May 4, 2005, to complete Amendment 9 without a limited access program for the Atlantic mackerel fishery, and to pursue the Atlantic mackerel limited access program in Amendment 10 to the FMP. NMFS informed the public of the Council's decision in a subsequent notice on June 9, 2005 (70 FR 33728).

Since then, the Council has been notified that it must develop a stock rebuilding program for butterfish as a result of that stock being designated as overfished. The Council was also informed that the stock rebuilding program for butterfish must be developed in an amendment to the FMP rather than in a framework adjustment as the Council had originally intended. Consequently, Amendment 10 will now include a plan to rebuild the overfished butterfish stock. The Council has concluded that Amendment 10 will require only an Environmental Assessment under the requirements of the National Environmental Policy Act (NEPA). As a result, the Council hereby notifies the public that the mackerel limited access program will now be developed in Amendment 11 to the FMP. Other than the sequencing of the amendments to this FMP and a slight time delay, the Council anticipates that the development of the limited access program for mackerel will proceed as described in previous notices to the public. The public will have the opportunity to comment on the measures and alternatives being considered by the Council for Amendment 11 through public meetings and public comment periods required by NEPA, the Magnuson-Stevens Fishery Conservation and Management Act, and the Administrative Procedure Act. This notification also reminds the public that interested participants should locate and preserve records that substantiate and verify their participation in the Atlantic mackerel fishery in Federal waters.

Authority: 16 U.S.C. 1801 et. seq.

Dated: December 13, 2005.
Alan D. Risenhoover,
Acting Director, Office of Sustainable Fisheries, National Marine Fisheries Service.

[FR Doc. 05-24206 Filed 12-16-05; 8:45 am]

BILLING CODE 3510-22-S